FEDERAL TRADE COMMISSION

Agency Information Collection Activities; Submission for OMB Review; Comment Request

AGENCY: Federal Trade Commission.

ACTION: Notice.

SUMMARY: The Federal Trade Commission (FTC) has submitted to the Office of Management and Budget (OMB) for review proposed additions to an OMB clearance for FTC administrative activities. The FTC seeks public comments regarding the additions and this notice, which is the second of two notices required by the PRA for information collection requests of this nature. The proposed additions consist of telephone complaint hotlines through which staff collects information from callers, three consumer complaint forms, and a survey to be used to evaluate the effectiveness of the FTC's complaint handling system.

DATES: Comments must be submitted on or before October 25, 2000.

ADDRESSES: Send written comments to the Office of Information and Regulatory Affairs, Office of Management and Budget, New Executive Office Building, Room 10202, Washington, DC 20503, ATTN.: Desk Officer for the Federal Trade Commission, and to Secretary, Federal Trade Commission, Room H-159, 600 Pennsylvania Avenue, NW., Washington, DC 20580 (or by e-mail to frnotice0047@ftc.gov). The submissions should include the submitter's name, address, telephone number and, if available, FAX number and e-mail address. All submissions should be captioned “PRA/Consumer Complaint system.” All comments should be identified as responding to this notice.

FOR FURTHER INFORMATION CONTACT: Requests for additional information or copies of the proposed survey questions should be addressed to Joseph Brooke, Division of Planning and Information, Bureau of Consumer Protection, Federal Trade Commission, 600 Pennsylvania Avenue, NW., H-292, Washington, DC 20580, (202) 326-3484. The consumer complaint forms may be found at the following websites: https://www.ftc.gov/ftc/complaint.htm (general complaint form); https://www.ftc.gov/ftc/knowfraudcomplaint.htm (fraud complaints); and https://www.ftc.gov/ftc/idtheftform.htm (identity theft).

SUPPLEMENTARY INFORMATION: Under section 3507(h)(3) of the PRA, 44 U.S.C. 3501-3520, a Federal agency may not materially change an approved collection of information ¹ unless OMB has approved the modification. OMB previously granted approval for various collections of information grouped under the category “FTC Administrative Activities” (OMB Control Number 3084-0047) on August 16, 1999. This category consists of applications to the FTC, including those pertaining to its Rules of Practice, primarily those under Parts 1, 2, and 4 of CFR Title 16. On July 12, 2000, OMB granted an expedited provisional clearance for the FTC's collections of information associated with its telephone complaint hotlines, customer complaint forms (providing alternative access to the CRC), and a customer satisfaction survey and, under 5 CFR 1320.13(d), waived the requirement to publish a notice of the emergency clearance request.

¹ “Collection of information” includes agency requests for answers to identical questions from ten or more persons (extending beyond mere identification of the respondent). See 44 U.S.C. 3502(3); 5 CFR 1320.3(c), 5 CFR 1320.3(h)(1).

On July 19, 2000, the FTC published a Federal Register notice with a 60-day comment period soliciting comments from the public concerning the proposed collections of information (65 FR 44788). No comments were received.

Description of the Collection of Information and Proposed Use

The forms and survey are designed to improve public access to the Bureau of Consumer Protection's (BCP) Consumer Response Center (CRC), and are voluntary. Consumers may call a hotline phone number or may log on to the FTC's website to register a complaint using the applicable complaint form. There are three different consumer complaint forms: (1) The general www.ftc.gov complaint form (for other than identity theft complaints); (2) the www.consumer.gov “Know Fraud” complaint form (essentially another way to access complaint form #1); and (3) the “Identity Theft On-Line Complaint Form.”

General and Fraud Complaint Systems

Telephone complaints and inquiries to the FTC are answered both by FTC staff and offsite contractor. Telephone counselors ask for the same information that consumers would enter on the applicable online form. For the general complaint and fraud systems, BCP has set a target time of 4.5 minutes per call to gather information, somewhat less time than it estimates for consumers to enter their complaints online.² This target was determined by the BCP's standard telemarketing best practices for consumer calls. Frequently, a small part of these incoming calls is devoted to the agency's providing information to consumers, not collecting information. The burden estimate conservatively assumes that all of the estimated time is devoted to collecting information from consumers.

² Because the fraud-related form is closely patterned after the general complaint form, burden estimates per respondent for each are the same.

Identity Theft

To handle complaints about identity theft, the FTC must obtain more detailed information than is required of other complainants. BCP designed the online identity theft form to be as short as practicable, seeking only the minimum information needed for initial evaluation and potential follow up. Obtaining further information through the initial consumer contact was dropped as unwieldy. With call-ins, however, staff and the contractor seek to obtain more detailed and comprehensive information up front to minimize the need for follow up calls.

Since investigating identity theft requires more information (e.g., credit history, credit bureau information, respondent social security number, identifying multiple suspects) than general consumer complaints and complaints about fraud, identity theft calls and online entries take longer. However, a substantial portion of identity theft-related calls (approximately 4 minutes per call) typically consists of counseling consumers on other steps they should consider taking to obtain relief. Because this activity is different in nature and degree than the incidental provision of information in other types of fraud complaints, staff excludes it with regard to identity theft-related calls.

Customer Satisfaction Survey

The customer satisfaction survey would collect information concerning the overall effectiveness and timeless of the CRC. The CRC will survey roughly 2 percent of complainants. Subsets of consumers who have contacted staff throughout the year will be questioned about specific aspects of CRC customer service.

Each consumer surveyed would be asked 8-10 questions chosen from the list noted above. Half of the questions would ask consumers to rate CRC performance on a scale or call for yes or no repsonses. The second half of the survey wold ask more open-ended questions seeking a short written or verbal answer. BCP staff estimates that each respondent will require four minutes to answer the questions (approximately 20-30 seconds per question).

What follows are staff's estimates of burden for these various collections of information, including the questionnaire. The figures for the online forms and consumer hotlines are an average of annualized volume-to-date for the respective programs and projected volume for the next two years (the period of the existing clearance for FTC administrative activities), and are rounded to the nearest thousand.

Annual hours burden:

Activity | Number of respondents | Number minutes/ activity | Total hours
Miscell, and fraud-related consumer complaints (phone) | 300,000 | 4.5 | 23,000
Miscell, and fraud-related consumer complaints (online) | 35,000 | 5.0 | 3,000
IDT complaints (phone) | 90,000 | 8 | 12,000
IDT complaints (online) | 26,000 | 7.5 | 3,000
Customer Satisfaction Questionaire | 9,000 | 4.0 | 600
Total | 460,000 |  | 41,600

Annual cost burden:

The cost per respondent should be negligible. Participation is voluntary, and will not require any labor expenditures by respondents. There are no capital, start-up, operation, maintenance, or other similar costs to the respondents.

Debra A. Valentine,
General Counsel.

[FR Doc. 00-24534 Filed 9-22-00; 8:45 am]

BILLING CODE 6750-01-M